DEPARTMENT OF HEALTH AND HUMAN SERVICES

National Institutes of Health

State-of-the-Science Conference on Symptom Management in Cancer: Pain, Depression, and Fatigue

Notice is hereby given of the National Institutes of Health (NIH) State-of-the-Science Conference on “Symptom Management in Cancer: Pain, Depression, and Fatigue” to be held July 15-17, 2002, in the NIH Natcher Conference Center, 45 Center Drive, Bethesda, Maryland 20892. The conference will begin at 8 a.m. on July 15 and 16, and at 9 a.m. on July 17 and will be open to the public.

While research is producing increasingly hopeful insights into the causes and cures of cancer, efforts to manage the side effects of the disease and its treatments have not kept pace. Evidence suggests that pain, for example, is frequently under-treated in the oncology setting.

In the past three decades, scientific discoveries have transformed cancer from a usually fatal disorder to a curable illness for some and a chronic disease for many more. With this shift has come a growing optimism about the future, but also a growing appreciation of the human costs of cancer care. As patients live longer with cancer, concern is growing about both the health-related quality of life of those diagnosed with cancer and the quality of care they receive. The challenge that faces us is how to increase awareness about the importance of recognizing and actively addressing cancer-related distress when it occurs. Specifically, we need to be able to identify who is at risk for cancer-related pain, depression, and/or fatigue; what treatments work best to address these symptoms when they occur; and how best to deliver interventions across the continuum of care.

This two-and-a-half-day conference will examine the current state of knowledge regarding the management of pain, depression and fatigue in individuals with cancer and identify directions for future research.

During the first day-and-a-half of the conference, experts will present the latest research findings on cancer symptom management to an independent non-Federal panel. After weighing all of the scientific evidence, the panel will draft a statement, addressing the following key questions:

• What is the occurrence of pain, depression, and fatigue, alone and in combination, in people with cancer?

• What are the methods used for clinical assessment of these symptoms throughout the course of cancer, and what is the evidence for their reliability and validity in cancer patients?

• What are the treatments for cancer-related pain, depression, and fatigue, and what is the evidence for their effectiveness?

• What are the impediments to effective symptom management in people diagnosed with cancer, and what are optimal strategies to overcome these impediments?

• What are the directions for future research?

On the final day of the conference, the panel chairperson will read the draft statement to the conference audience and invite comments and questions. A press conference will follow, to allow the panel and chairperson to respond to questions from the media.

The primary sponsors of this meeting are the National Cancer Institute and the NIH Office of Medical Applications of Research. Co-sponsors of the meeting are: the U.S. Food and Drug Administration (FDA), the National Institute on Aging (NIA), the National Institute of Dental and Craniofacial Research (NIDCR), the National Institute of Mental Health (NIMH), the National Institute of Nursing Research (NINR), the National Institute of Neurological Disorders and Stroke (NINDS), and the National Center for Complementary and Alternative Medicine (NCCAM).

Advance information about the conference and conference registration materials may be obtained from AIR Prospect Center of Silver Spring, Maryland, by calling 301-592-3320 or by sending e-mail to <cancersymptoms@prospectassoc.com>. AIR Prospect Center's address is 10720 Columbia Pike, Suite 500, Silver Spring, Maryland 20901-4437. A conference agenda and registration information are also available on the NIH Consensus Program Web site at <http://consensus.nih.gov>.

Please Note: The NIH has recently instituted new security measures to ensure the safety of NIH employees and property. All visitors must be prepared to show a photo ID upon request. Visitors may be required to pass through a metal detector and have bags, backpacks, or purses inspected or x-rayed as they enter NIH buildings. Conference attendees may want to leave extra bags or personal materials at their hotel to minimize the time needed for inspection. For more information about the new security measures at NIH, please visit the Web site at <http://www.nih.gov/about/visitorssecurity.htm>.

Dated: March 25, 2002.
Ruth L. Kirschstein,
Acting Director, National Institutes of Health.

[FR Doc. 02-7815 Filed 3-29-02; 8:45 am]

BILLING CODE 4140-01-P